DEPARTMENT OF DEFENSE

Department of the Navy

Record of Decision for the Development of the Westside of Marine Corps Base Quantico, Including the 2005 Base Realignment and Closure Action

AGENCY: Department of the Navy, DoD.

ACTION: Notice of Record of Decision.

SUMMARY: Pursuant to Section 102(2)(c) of the National Environmental Policy Act (NEPA) of 1969, 42 U.S.C. Section 4332(2)(c), the regulations of the Council on Environmental Quality's (CEQ) for Implementing the Procedural Provisions of (40 CFR parts 1500-1508), the Department of the Navy NEPA regulation (32 CFR part 775), and the Marine Corps Environmental Compliance and Protection Manual, which is Marine Corps Order P5090.2A (MCO P5090.2A), the Department of the Navy announces its decision to develop the area west of Interstate 95 (Westside) at Marine Corps Base Quantico (MCB Quantico), Virginia. This action will include implementation of the 2005 Base Realignment and Closure (BRAC) action at MCB Quantico. The development of Westside and implementation of BRAC 2005 at MCB Quantico will be accomplished as set out in the Preferred Alternative and described in the Final Environmental Impact Statement (Final EIS) of April 2008.

FOR FURTHER INFORMATION CONTACT: Mr. Jeff Gardner, NREA Branch (B046), 3250 Catlin Avenue, Marine Corps Base, Quantico, VA 22134-0855, telephone: 703-432-6770, and e-mail: jeff.gardner@usmc.mil.

SUPPLEMENTARY INFORMATION: In 2005, the Secretary of Defense and the Defense Base Closure and Realignment Commission recommended that certain realignment actions occur at MCB Quantico. The President and Congress approved these recommendations, which became law on November 9, 2005. These recommendations must now be implemented as provided for in the Defense Base Closure and Realignment Act of 1990 (Pub. L. 101-510), as amended, no later than September 15, 2011. The actions directed at MCB Quantico are the collocation of Military Department Investigation Agencies Headquarters with the Counterintelligence Field Activity, and the Defense Security Service at MCB Quantico. These realignment actions will add approximately 3,000 personnel to work at MCB Quantico by 2011.

Projected personnel growth in Marine Corps units currently on Mainside, requirements to consolidate personnel located elsewhere, replacement of inadequate facilities on Mainside, and an expectation that other federal and Marine Corps initiatives will continue to identify MCB Quantico as a site for relocation, combined with limited redevelopment potential on Mainside, comprise the additional need to develop Westside.

Proposed Action. The Marine Corps proposes development of the Westside of MCB Quantico including the 2005 BRAC action at MCB Quantico. The development would entail construction of new facilities in two undeveloped areas west of I-95. These areas, the Russell Road Area and the MCB-1 Area, would accommodate the collocation of Military Department Investigation Agencies with the Department of Defense Counterintelligence and Security Agency at MCB Quantico as directed by the 2005 BRAC law. They would also provide space for adequate facilities to support Marine Corps units currently at MCB Quantico, as well as potentially other federal and Marine Corps initiatives that may identify MCB Quantico as a site for relocation. The components of the Proposed Action include construction and operation of new facilities with the necessary infrastructure, road improvements, and security measures to support new facilities.

Alternatives Considered: The Final EIS assesses two action Alternatives, A and B, that respectively provide development to support only the BRAC Action involving 3,000 personnel, or development to support both the BRAC Action and an additional 2,000 personnel that would relocate to the Westside. Both Alternatives A and B include the two development location options for the BRAC component that were identified in the 2006 Quantico Land Use Plan, I-95 West: (BRAC Option 1 (Russell Road) and BRAC Option 2 (MCB-1)). The following four options to implement the Proposed Action are evaluated by the Final EIS. Alternative B BRAC Option 1 (Russell Road) is the Marine Corps Preferred Alternative.

Alternative A, BRAC Action. Alternative A would add only the development required to accommodate those personnel (approximately 3,000) associated with the BRAC 2005 action. About 70 acres would be required for the facilities. About 735,000 square feet of space and provision of parking and necessary supporting infrastructure would be constructed. Road widening and intersection improvements would be required throughout the Russell Road/MCB-1 corridor, from the intersection of Russell Road with U.S. Route 1 to the Southern Russell Road Site and/or to the MCB-1 Area. Alternative A BRAC Option 1 (Russell Road) would site the entire BRAC development in the Southern Russell Road Site, south of Telegraph Road and just east of the intersection of Russell Road with Telegraph Road. Alternative A BRAC Option 2 (MCB-1) would site the entire BRAC development in the Northern MCB-1 Site along Hotpatch Road.

Alternative B, 5,000 Personnel Including BRAC. Alternative B would add 5,000 personnel to work in the Westside, including 3,000 BRAC and 2,000 non-BRAC personnel. The non-BRAC personnel include approximately 1,000 personnel currently working elsewhere at MCB Quantico. Total space needed for BRAC and non-BRAC components is estimated to be approximately 148 acres and 1,300,000 square feet of interior space. Road widening and intersection improvements would be required throughout the Russell Road/MCB-1 corridor, from the intersection of Russell Road with U.S. Route 1 to the Southern Russell Road Site and/or to the MCB-1 Area.

Alternative B BRAC Option 1 (Russell Road) (The Preferred Alternative) would site the entire BRAC development in the Southern Russell Road Site; the remainder of the development for the additional 2,000 personnel would be sited in the MCB-1 Area, including approximately 300 personnel potentially at the Weapons Training Battalion Site. Alternative B BRAC Option 2 (MCB-1) would site the entire BRAC development in the MCB-1 Site along Hotpatch Road. The remaining development for 2,000 personnel could be completely sited in other parcels of the MCB-1 Area, or completely sited in the Southern Russell Road Site, or split between the two areas in some combination. Development for 300 personnel would be considered for the Weapons Training Battalion Site.

No Action Alternative. The No Action Alternative would maintain the status quo. The No Action Alternative would not permit the implementation of the BRAC-directed action and would not be consistent with current law.

Environmentally Preferred Alternative. The No Action Alternative maintains the status quo and therefore does not impact the existing environment. It is the environmentally preferred alternative. However, it does not meet the purpose and need of the action, and does not comply with BRAC law. Therefore, a further environmental comparison of the two action alternatives, which meet purpose and need, is provided.

Alternative A would disturb a smaller quantity of environmental resources and consequently would be environmentally preferred to Alternative B. In terms of satisfying the BRAC requirement, either BRAC Option 1 (Russell Road) or BRAC Option 2 (MCB-1) is equally environmentally preferred depending upon the environmental resource of concern. Option 1 under either alternative potentially disturbs a greater quantity of wetlands, which can be mitigated, however. Option 2 entails more roadway construction under Alternative A and results in more traffic congestion on Base under both Alternatives A and B by placing a higher density of personnel in one general area than Option 1. Option 2 also places more personnel within the radii of potentially disturbing sound contours from training exercises. Other impacts are similar for Options 1 and 2.

Environmental Impacts: Environmental impacts associated with the Preferred Alternative, Alternative B BRAC Option 1 (Russell Road), are discussed below.

Water Resources. The widening of Russell Road will cross Chopawamsic Creek, but would avoid all other wetlands or Waters of the U.S. The Marine Corps would obtain any required permits under the Virginia/U.S. Army Corps of Engineers Joint Permit Application process. Implementation of stormwater and erosion and sedimentation best management measures would reduce impacts to water quality.

Biological Resources. The Preferred Alternative would directly impact an estimated 148 acres of primarily forested habitat. The Preferred Alternative would occupy approximately two percent of the total 6,895 forested acres in which the Russell Road and MCB-1 Areas are located and would be near roads that already act as a barrier to wildlife. Therefore impacts to forest habitat would be minimal. Impacts to migratory birds would also be minimal. Proposed site development would avoid areas containing the federally-threatened small whorled pogonia or its designated protection zone. No other threatened or endangered species are expected in the proposed development areas. Consistent with U.S. Fish and Wildlife Service recommendations, widening of Russell Road would occur on the opposite side of most recently identified small whorled pogonia colonies. Through informal consultation, the U.S. Fish and Wildlife agreed the road widening is not likely to adversely affect the small whorled pogonia and/or its associated habitat as long as the widening of Russell Road occurred as recommended.

Build out of the construction site has the potential, through the importation of aggregate and other construction materials, as well as landscaping and natural re-vegetation processes to introduce invasive or non-native species. Mitigation measures will be employed to prevent any such introduction of invasive or non-native species and all landscape plantings will be in accordance with the approved plant list described in the Base Exterior Architecture Plan.

Air Quality: MCBQ is located in an air quality control region that is in moderate nonattainment for ozone and in nonattainment for particulate matter with diameter less than or equal to 2.5 micrometers (PM2.5). It is also in an ozone transport region. Federal actions located in nonattainment and maintenance areas are required to demonstrate compliance with the general conformity guidelines. The Final EIS has a completed General Conformity Rule applicability analysis for the ozone precursor pollutants nitrogen oxides and volatile organic compounds, for PM2.5, and for the PM2.5 precursor pollutant sulfur dioxide to analyze impacts to air quality. It determined that annual project emissions are well below de minimis values and are not regionally significant; therefore, a further conformity determination is not required and impacts from these pollutants are not significant. A Record of Non-Applicability was included in the Final EIS.

Noise: The proposed development areas could be impacted by noise from nearby training ranges that will increase in the future with the introduction of new aircraft and increased ordnance. Reports from noise studies indicate that in the future much of the MCB-1 Area and approximately 10 acres in the western portion of the Southern Russell Road Site are projected to be within a zone of moderate noise impact. Noise attenuation measures would be employed to meet noise standards, most of which are already designed into the construction to meet security requirements. Temporary noise associated with construction and any increase in noise levels from traffic would not be expected to cause impacts off Base.

Transportation. Traffic studies conducted in conjunction with the EIS show that most secondary intersections within the project area currently operate at acceptable levels; major access points that serve the Base typically perform at unacceptable levels during peak commuter periods.

Anticipated growth within the region and the corresponding increase in vehicular traffic are predicted to further degrade the operation of most intersections within the area. This degradation is expected to occur with or without implementation of the proposed development of the area west of I-95, unless improvements to those intersections are made. The EIS analysis projects levels of service considered unacceptable at intersections that provide access from U.S. Route 1 and I-95, as well as within the Westside at proposed development sites, unless roadway improvement measures are implemented, including those proposed as mitigation in this document. In general, impacts within the Westside are less if the development is spread between the Southern Russell Road Site and MCB-1 Area, as occurs for the Preferred Alternative.

Socioeconomics. Implementation of the Preferred Alternative could increase local residents employed at MCB Quantico by approximately 2,800 over time, and also would add associated additional family members to the region. The additional population would be expected to add students to the region's schools and could contribute to any need for additional services in the region. The projected additional residents represent a small percent of projected regional growth and impacts to the region are not expected to be significant. Implementation of the Preferred Alternative is not expected to have disproportionately high and adverse human health or environmental effects on minority, low-income or younger segments of the local population.

Land Use: Proposed alternatives are consistent with MCBQ land use plans; however, some land currently used for training and recreational hunting would become unavailable and routes to training areas currently passing through the development sites could require realignments. Traffic on MCB-1 Road passes through the explosive safety arcs for the adjacent ammunition supply point and would necessitate an adjustment of ammunition storage. A project is planned to accomplish this by 2011.

Mitigation: The Marine Corps has identified potential mitigation measures for any impacts to wetlands, surface water, invasive species, and federally-threatened species, control of fugitive emissions to air, potential noise exposure, and for traffic generated by the alternatives that could cause unacceptable levels of service at nearby intersections or exceed safety limits associated with the Ammunition Supply Point. Implementation of mitigation will be monitored by the Marine Corps construction management teams involved with each project.

Wetland Impacts Mitigation. The Virginia/USACE Joint Permit Application process would be followed and best management practices for erosion and sediment control will be implemented during and following construction. Use of wetlands bank credits may be used by MCB Quantico to mitigate the potential wetland losses.

Surface Water Measures. Stormwater management plans and best management practices would be employed to control runoff. In addition, a stormwater construction permit issued by the Virginia Department of Conservation and Recreation is required for all land disturbing projects greater than or equal to one acre of disturbance.

Invasive Species Measures. In accordance with Executive Order 13112 (Invasive Species), and as discussed in detail in the FEIS, during development of the sites, recommended measures to reduce the spread of invasive species would be implemented as practicable.

Threatened Species Measures. In accordance with U.S. Fish and Wildlife Service recommendation, road widening would only occur on the west side of Russell Road.

Fugitive Dust Control Measures. Fugitive dust from construction would be kept to a minimum by using control methods in accordance with the Regulations for the Control and Abatement of Air Pollution (9 VAC 5-50-60 et seq).

Noise Impacts Measures. For facilities sited in a zone of moderate noise impacts, Noise Level Reduction (NLR) measures will be included in the design of administrative facilities to reduce noise and impulse vibrations.

Ammunition Safety and Overpressure Zone Measures. The ammunition supply point operations building will be moved to avoid a hazard to passing vehicles. Development designs will consider the overpressure zone when a specific location for buildings has been determined and the distance can be measured to identify design requirements.

Potential Traffic Improvement Measures. The following roadway improvements will be funded and implemented by the Marine Corps to mitigate impacts caused by the Preferred Alternative: (1) Russell Road will be widened to 4 lanes from the Russell Road/Telegraph Road intersection east to approximately 300 feet past the northbound entrance ramp to I-95 (I-95 overpass support structures will not be altered); (2) a connector road will be constructed between Telegraph Road and Russell Road with traffic signals installed at each end; (3) the existing Chopawamsic Creek bridge will be rehabilitated; (4) an additional 2-lane bridge will be constructed over Chopawamsic Creek adjacent to the existing bridge; (5) the I-95 southbound exit ramp will have an additional lane added (westbound) and a traffic signal installed; (6) the I-95 northbound exit ramp will have an additional lane added (westbound) and a traffic signal installed; (7) a traffic signal will be installed on Russell Road adjacent to the northbound entrance ramp to I-95 from Russell Road; (8) Ponderosa Gate will be improved; and (9) the U.S. Route 1 ramps to and from Russell Road are under study in conjunction with gate improvements to Mainside to improve level of service.

Additional roadway improvements to the west of Ponderosa Gate will be identified when development there and resultant traffic volumes warrant. The EIS identified off-Base improvements at the U.S. Route 1/VA 637 and VA 610/Onville road intersections that would be under the purview of the Commonwealth of Virginia; the Marine Corps will cooperate with the Commonwealth as appropriate if these improvements are implemented. The Defense Access Roads (DAR) Program is the only authority the Marine Corps has to address these recommended improvements and the Marine Corps will submit requests for consideration under this program if they meet DAR criteria. In the next update of the Base Transportation Management Plan the Marine Corps will identify strategies to reduce single-occupancy vehicle trips during peak hours. This plan will also encourage carpooling and staggered work hours where these do not impair accomplishment of the defense mission. The Base will cooperate with regional mass transit initiatives. State and/or local governments have jurisdiction over off-Base roads and intersections and would determine whether improvements identified off-Base in the EIS should be implemented.

Response To Comments Received Regarding the Final EIS: Comments on the Final EIS were received from the Commonwealth of Virginia. They noted the Virginia Department of Transportation (VDOT) concerns with the statement in the Final EIS that state and/or local governments are the action proponents for off-Base road improvements and the inference that these had been approved and funded by State or local governments. VDOT also requested commitments to carpooling, staggered work hours, regional mass transit initiatives, and a transportation demand management plan focused on reducing single-occupancy vehicle trips during peak hours. The Marine Corps has addressed these comments in the preceding section.

Conclusions: After careful consideration of the purpose and need for the proposed action, the analysis contained in the EIS and the comments received on the EIS from federal, state, and local agencies, non-governmental organizations, and individual members of the public, I have decided to proceed with the Preferred Alternative, Alternative B BRAC Option 1 (Russell Road) for development of Westside and implementation of BRAC 2005 at MCB Quantico, Virginia.

Consistent with this decision and the Proposed Action and analyses described in the Final EIS, at the sites identified in the Preferred Alternative, the Marine Corps will implement the Preferred Alternative and address all mitigation measures.

Dated: June 24, 2008.
BJ Penn,
Assistant Secretary of the Navy (Installations and Environment).

[FR Doc. E8-14854 Filed 6-30-08; 8:45 am]

BILLING CODE 3810-FF-P